GENERAL SERVICES ADMINISTRATION

[OMB Control No. 3090-0290; Docket No. 2026-0001; Sequence No. 2]

Information Collection; System for Award Management Registration Requirements for Financial Assistance Recipients

AGENCY: Technology Transformation Services, General Services Administration (GSA).

ACTION: Notice; request for comments.

SUMMARY: Under the provisions of the Paperwork Reduction Act of 1995, the Regulatory Secretariat Division invites the public to comment on a revision to an existing information collection requirement regarding the pre-award registration requirements for Prime Financial Assistance Recipients.

DATES: Submit comments on or before March 30, 2026.

ADDRESSES: Submit comments identified by Information Collection “3090-0290, System for Award Management Registration Requirements for Financial Assistance Recipients” via http://www.regulations.gov. Submit comments via the Federal eRulemaking portal by searching OMB control number 3090-0290. Select the link “Comment Now” that corresponds with Information Collection “3090-0290, System for Award Management Registration Requirements for Financial Assistance Recipients”. Follow the instructions provided on the screen. Please include your name, company name (if any), and Information Collection “3090-0290, System for Award Management Registration Requirements for Financial Assistance Recipients” on your attached document.

Instructions: Please submit comments only and cite Information Collection “3090-0290, System for Award Management Registration Requirements for Financial Assistance Recipients”, in all correspondence related to this collection. Comments received generally will be posted without change to regulations.gov, including any personal and/or business confidential information provided. To confirm receipt of your comment(s), please check regulations.gov, approximately two-to-three days after submission to verify posting.

FOR FURTHER INFORMATION CONTACT: IAE Program Office at IAE_Admin@gsa.gov.

SUPPLEMENTARY INFORMATION:

A. Purpose

The existing information collection requires applicants and recipients of Federal financial assistance, unless the applicant is an individual or Federal awarding agency that is excepted from those requirements, to register in the System for Award Management (SAM) and maintain an active SAM registration with current information at all times during which they have an active Federal award or an application or plan under consideration by an agency pursuant to 2 CFR subtitle A, chapter I, and part 25. This facilitates prime awardee reporting of sub-award and executive compensation data pursuant to the Federal Funding Accountability and Transparency Act of 2006, as amended (31 U.S.C. 6101 note). This information collection requires that all prime financial assistance awardees, subject to reporting under the Federal Funding Accountability and Transparency Act, register and maintain their registration in SAM.gov.

The proposed amendment would update the Financial Assistance General Representations and Certifications to align with updated executive branch guidance including Department of Justice “Guidance for Recipients of Federal Funding Regarding Unlawful Discrimination” (July 29, 2025) (https://www.justice.gov/ag/media/1409486/dl) and Executive Order (E.O.) 14173 of January 21, 2025, Ending Illegal Discrimination and Restoring Merit-Based Opportunity (https://www.federalregister.gov/documents/2025/01/31/2025-02097/ending-illegal-discrimination-and-restoring-merit-based-opportunity) applicable to all entities receiving grants, cooperative agreements, and financial assistance such as loans, insurance, and direct appropriations.

B. Annual Reporting Burden

Respondents: 222,760.

Responses per Respondent: 1.

Total Annual Responses: 222,760.

Hours per Response: 2.75.

Total Burden Hours: 612,590.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the GSA, Regulatory Secretariat Division (MVCB) at GSARegSec@gsa.gov. Please cite OMB Control No. 3090-0290, System for Award Management Registration Requirements for Financial Assistance Recipients, in all correspondence.

Elizabeth F DelNegro,
Associate Chief Information Officer.

[FR Doc. 2026-01676 Filed 1-27-26; 8:45 am]

BILLING CODE 6820-WY-P